SMALL BUSINESS ADMINISTRATION

[Disaster Declaration # 11281]

Indiana Disaster Number IN-00020

AGENCY: U.S. Small Business Administration.

ACTION: Amendment 1.

SUMMARY: This is an amendment of the Presidential declaration of a major disaster for Public Assistance Only for the State of Indiana (FEMA-1766-DR), dated 06/08/2008.

Incident: Severe Storms, Flooding, and Tornadoes.

Incident Period: 05/30/2008 and continuing.

Effective Date: 06/11/2008.

Physical Loan Application Deadline Date: 08/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of INDIANA, dated 06/08/2008, is hereby amended to re-establish the incident period for this disaster as beginning 05/30/2008 and continuing. The incident type is also amended and is now severe storms, flooding, and tornadoes.

All other information in the original declaration remains unchanged.

(Catalog of Federal Domestic Assistance Number 59008)

Herbert L. Mitchell,
Associate Administrator for Disaster Assistance.

[FR Doc. E8-13870 Filed 6-18-08; 8:45 am]

BILLING CODE 8025-01-P